DEPARTMENT OF COMMERCE

National Institute of Standards and Technology

[Docket No. 110107015-0497-02]

Announcing Draft Federal Information Processing Standard 180-4, Secure Hash Standard, and Request for Comments

AGENCY: National Institute of Standards and Technology (NIST), Commerce.

ACTION: Notice and request for comments.

SUMMARY: This notice announces the Draft Federal Information Processing Standard (FIPS) 180-4, Secure Hash Standard (SHS), for public review and comment. The draft standard, designated “Draft FIPS 180-4” is proposed to supersede FIPS 180-3.

DATES: Comments must be received on or before May 12, 2011.

ADDRESSES: Written comments may be sent to: Chief, Computer Security Division, Information Technology Laboratory, Attention: Comments on Draft FIPS 180-4, 100 Bureau Drive—Stop 8930, National Institute of Standards and Technology, Gaithersburg, MD 20899-8930.

Electronic comments may be sent to: Proposed180-4@nist.gov.

The current FIPS 180-3 and its proposed replacement, Draft FIPS 180-4, are available electronically at http://csrc.nist.gov/publications/index.html.

Comments received in response to this notice will be published electronically at http://csrc.nist.gov/CryptoToolkit/.

FOR FURTHER INFORMATION CONTACT: Elaine Barker, Computer Security Division, National Institute of Standards and Technology, Gaithersburg, MD 20899-8930, phone: 301-975-2911, e-mail: elaine.barker@nist.gov; or Quynh Dang, Computer Security Division, National Institute of Standards and Technology, Gaithersburg, MD 20899-8930, e-mail: quynh.dang@nist.gov.

SUPPLEMENTARY INFORMATION: NIST publishes this notice to request comments on Draft FIPS 180-4, Secure Hash Standard (SHS), which updates FIPS 180-3, Secure Hash Standard, which was approved in October 2008. FIPS 180-3 specifies five secure hash algorithms (SHAs): SHA-1, SHA-224, SHA-256, SHA-384 and SHA-512. These algorithms produce 160, 224, 256, 384, and 512-bit outputs, respectively, which are called message digests. Draft FIPS 180-4 would update FIPS 180-3 by providing a general procedure for creating an initialization hash value, adding two additional secure hash algorithms, SHA-512/224 and SHA-512/256, to the standard, and removing a restriction that padding must be done before hash computation begins, which was required in FIPS 180-3. NIST proposes adding SHA-512/224 and SHA-512/256 to Draft FIPS 180-4 because they may be more efficient alternatives to SHA-256 on platforms that are optimized for 64-bit operations. Removing the restriction on the padding operation in the secure hash algorithms will potentially create more flexibility and efficiency in implementing the secure hash algorithms in many computer network applications. Examples of the implementation of the secure hash algorithms SHA-1, SHA-224, SHA-256, SHA-384, SHA-512, SHA-512/224 and SHA-512/256, can be found at http://www.nist.gov/CryptoToolkitExamples. If approved by the Secretary of Commerce, Draft FIPS 180-4 will supersede FIPS 180-3.

Prior to the approval of this proposed standard by the Secretary of Commerce, it is essential that consideration be given to the needs and views of the public, users, the information technology industry, and Federal, State, and local government organizations. The purpose of this notice is to solicit such views. Interested parties may view or download the proposed standard at http://csrc.nist.gov/publications/drafts.html.

Authority: NIST's activities to develop computer security standards to protect Federal sensitive (unclassified) systems are undertaken pursuant to specific responsibilities assigned to NIST in Section 5131 of the Information Technology Management Reform Act of 1996 (Pub. L. 104-106), the Computer Security Act of 1987 (Pub. L. 100-235), and Appendix III to Office of Management and Budget Circular A-130.

Dated: February 7, 2011.
Charles H. Romine,
Acting Associate Director for Laboratory Programs.

[FR Doc. 2011-3129 Filed 2-10-11; 8:45 am]

BILLING CODE 3510-13-P